GENERAL SERVICES ADMINISTRATION

Office of Communications; Cancellation of an Optional Form by Department of State

AGENCY: General Services Administration.

ACTION: Notice.

SUMMARY: The Department of State is cancelling the following Optional Form because of low usage:

OF 167, Evidence Which May Be Present To Meet The Public Charge Provisions Of The Law

This form will become a Department of State form.

DATES: Effective September 19, 2000.

FOR FURTHER INFORMATION CONTACT: Mr. Charles Cunningham, Department of State, (202) 647-0596.

Dated: August 24, 2000.
Barbara M. Williams,
Deputy Standard and Optional Forms Management Officer.

[FR Doc. 00-23973 Filed 9-18-00; 8:45 am]

BILLING CODE 6820-34-M